DEPARTMENT OF JUSTICE

Notice Of Public Comment Period for Proposed Clean Water Act Consent Decree

Under 28 CFR 50.7, notice is hereby given that, for a period of 30 days, the United States will receive public comments on a proposed Consent Decree in United States v. The Meridian Resource & Exploration LLC et al. (“Meridian Consent Decree”) (Civil Action No. 07-1482), which was lodged with the United States District Court for the Western District of Louisiana on September 6, 2007.

This proposed Consent Decree was lodged simultaneously with the Complaint in this Clean Water Act case against The Meridian Resource & Exploration LLC and Louisiana Onshore Properties LLC (collectively, “Meridian”). The Complaint alleges that Meridian is civilly liable for violations of the Clean Water Act (“CWA”), 33 U.S.C. 1251 et seq., as amended by the Oil Pollution Act of 1990 (“OPA”), 33 U.S.C. 2701 et seq. The Complaint seeks civil penalties and injunctive relief for five unauthorized discharges of crude oil into navigable waters of the United States or adjoining shorelines from Meridian's operations at the Weeks Island field in Iberia Parish, Louisiana. In particular, the Complaint alleges that approximately 747 barrels of crude oil were discharged from two pipelines and an oil well owned by Louisiana Onshore Properties LLC and operated by The Meridian Resource & Exploration LLC. The Discharges occurred between approximately November 2005 and November 1, 2006.

Under the settlement, Meridian will take a number of actions to enhance its efforts to inspect, monitor, maintain, and repair its Weeks Island facilities in order to prevent and respond more quickly to future unauthorized discharges. In addition, Meridian will pay a civil penalty of $504,000.

Comments should be addressed to the Acting Assistant Attorney General, Environment and Natural Resources Division, and may be submitted to: P.O. Box 7611, U.S. Department of Justice, Washington, DC 20044-7611, or via e-mail to pubcomment-ees.enrd@usdoj.gov. and should refer to United States v. The Meridian Resource & Exploration LLC et al., D.J. Ref. 90-5-1-1-08993.

The Consent Decree may be examined at the Office of the United States Attorney, Western District of Louisiana, 800 Lafayette Street, Suite 2200, Lafayette, Louisiana 70501. During the public comment period the Meridian Consent Decree may also be examined on the following Department of Justice Web site: http://www.usdoj.gov/enrd/Consent_Decrees.html. A copy of the Meridian Consent Decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.50 (25 cents per page reproduction cost) payable to the U.S. Treasury.

Thomas A. Mariani, Jr.,
Assistant Section Chief, Environmental Enforcement Section, Environment and Natural Resources Division.

[FR Doc. 07-4648 Filed 9-19-07; 8:45 am]

BILLING CODE 4410-15-M